DEPARTMENT OF STATE

[Public Notice: 10055]

60-Day Notice of Proposed Information Collection: Affidavit of Relationship (AOR) for Minors Who Are Nationals of El Salvador, Guatemala, or Honduras

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 17, 2017.

ADDRESSES: You may submit comments by any of the following methods:

• Web: Persons with access to the Internet may comment on this notice by going to www.Regulations.gov. You can search for the document by entering “Docket Number: DOS-2017-0029” in the Search field. Then click the “Comment Now” button and complete the comment form.

• Email: GrecoMC@state.gov.

• Regular Mail: Send written comments to: Monica Greco, PRM/Office of Admissions, 2025 E Street NW., Washington, DC 20522.

You must include the DS form number (if applicable), information collection title, and the OMB control number in any correspondence.

FOR FURTHER INFORMATION CONTACT: Direct requests for additional information regarding the collection listed in this notice, including requests for copies of the proposed collection instrument and supporting documents, to Monica Greco, PRM/Office of Admissions, 2025 E Street NW., Washington, DC 20522, who may be reached on 202-453-9251 or at GrecoMC@state.gov.

SUPPLEMENTARY INFORMATION:

• Title of Information Collection: Affidavit of Relationship (AOR) for Minors Who Are Nationals of El Salvador, Guatemala, and Honduras.

• OMB Control Number: 1405-0217.

• Type of Request: Revision of a Currently Approved Collection.

• Originating Office: PRM/A.

• Form Number: DS-7699.

• Respondents: Lawfully present parents in the U.S. with children in El Salvador, Guatemala, and Honduras.

• Estimated Number of Respondents: 5,000.

• Estimated Number of Responses: 5,000.

• Average Time per Response: 120 minutes per response.

• Total Estimated Burden Time: 10,000 hours.

• Frequency: Once per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The Department of State Bureau of Population, Refugees, and Migration (PRM) is responsible for coordinating and managing the U.S. Refugee Admissions Program (USRAP). PRM coordinates within the Department of State, as well as with the Department of Homeland Security's U.S. Citizenship and Immigration Services (DHS/USCIS), in carrying out this responsibility. A critical part of the State Department's responsibility is determining which individuals, from among millions of refugees worldwide, will have access to U.S. resettlement consideration. The Central American Minors (CAM) Program allows certain parents lawfully present in the United States to request a refugee resettlement interview for unmarried children under 21 years of age, and certain eligible family members from El Salvador, Guatemala, or Honduras. Previously, qualifying children and eligible family members who were denied refugee status under the CAM program were considered for parole into the United States on a case-by-case basis by U.S. Citizenship and Immigration Services (USCIS). Following the USCIS announcement that it will no longer consider or authorize parole under the CAM program, the Department of State will revise the Affidavit of Relationship (AOR) for Minors Who Are Nationals of El Salvador, Guatemala, and Honduras (DS-7699) to reflect this change in policy. The DS-7699 will continue to assist DHS/USCIS to verify parent-child and other family relationships during refugee case adjudication. The main purpose of the DS-7699 is for the U.S.-based parent to provide biographical information about his/her child(ren) and other eligible family members who may subsequently seek access to the USRAP for verification by the U.S. government.

Methodology: This information collection currently involves use of electronic techniques. Parents (respondents) in the United States will work closely with a resettlement agency during the completion of the AOR to ensure that the information is accurate. Parents may visit any resettlement agency located in a U.S. community to complete an AOR. Sometimes respondents do not have strong English-language skills and benefit from having a face-to-face meeting with resettlement agency staff. The DS-7699 form will be completed electronically. Completed AORs will be printed out for ink signature by the respondents. The electronic copy will then be submitted electronically to the Refugee Processing Center (RPC) and downloaded into the Worldwide Refugee Admissions Processing System (WRAPS). The signed paper copy will remain with PRM's Reception and Placement Agency partners.

Dated: August 15, 2017.
Simon Henshaw,
Acting Assistant Secretary, Bureau of Population, Refugees, and Migration, Department of State.

[FR Doc. 2017-17507 Filed 8-17-17; 8:45 am]

BILLING CODE 4710-33-P